DEPARTMENT OF THE TREASURY

Proposed Collection; Comment Request; Office of Financial Stability

AGENCY: Departmental Offices, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Financial Stability, within the Department of Treasury, is soliciting comments concerning the Troubled Asset Relief Program—Making Home Affordable Participants.

DATES: Comments must be received on or before May 17, 2013 to be assured of consideration.

ADDRESSES: Direct all written comments to the Department of the Treasury, Departmental Offices, Office of Financial Stability, ATTN: Tracy Rogers, 1500 Pennsylvania Avenue NW., Washington, DC 20220, (202) 927-8868.

FOR FURTHER INFORMATION CONTACT: Requests for additional information or copies of the form(s) and instructions should be directed to the Department of the Treasury, Departmental Offices, OFS, ATTN: Tracy Roger, 1500 Pennsylvania Avenue NW., Washington, DC 20220, (202) 927-8868.

SUPPLEMENTARY INFORMATION:

Title: Troubled Asset Relief Program—Making Home Affordable Participants.

OMB Number: 1505-0216.

Abstract: Authorized under the Emergency Economic Stabilization Act (EESA) of 2008 (Public Law 110-343), the Department of the Treasury has implemented several aspects of the Troubled Asset Relief Program. Among these components is a voluntary foreclosure prevention program—Making Home Affordable (MHA) program, under which the Department uses TARP capital to lower the mortgage payments of qualifying borrowers. The Treasury does this through agreements with mortgage servicers (Servicer Participation Agreements, or SPAs) to modify loans on their systems. All servicers are eligible to participate in the program.

Type of Review: Extension without change of a currently approved collection.

Affected Public: Individuals or Households.

Estimated Number of Annual Respondents: 130.

Estimated Number of Annual Responses per Respondent: 1,560.

Estimated hours per response: 8.

Estimated Total Annual Burden Hours: 12,480.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: March 13, 2013.
Dawn Wolfgang,
Treasury PRA Clearance Officer.

[FR Doc. 2013-06130 Filed 3-15-13; 8:45 am]

BILLING CODE 4810-25-P